FARM CREDIT SYSTEM INSURANCE CORPORATION

Board Meeting

AGENCY: Farm Credit System Insurance Corporation Board; Regular Meeting.

SUMMARY: Notice is hereby given of the regular meeting of the Farm Credit System Insurance Corporation Board (Board).

DATE AND TIME: The meeting of the Board will be held at the offices of the Farm Credit Administration in McLean, Virginia, on January 19, 2012, from 9 a.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102.

SUPPLEMENTARY INFORMATION: This meeting of the Board will be open to the public (limited space available). In order to increase the accessibility to Board meetings, persons requiring assistance should make arrangements in advance. The matters to be considered at the meeting are:

Open Session

A. Approval of Minutes

• December 8, 2011

B. New Business

• Report on Investment Portfolio

• Review of Insurance Premium Rates

• Overview of Communications Crisis Plan with Porter Novelli

Dated: January 12, 2012.
Dale L. Aultman,
Secretary, Farm Credit System Insurance Corporation Board.

[FR Doc. 2012-864 Filed 1-17-12; 8:45 am]

BILLING CODE 6710-01-P